DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on the determination by the Secretary of State, in consultation with the heads of relevant agencies, that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Associate Director for Global Targeting, tel.: 202-622-2420; Assistant Director for Sanctions Compliance & Evaluation, tel.: 202-622-2490; or the Assistant Director for Licensing, tel.: 202-622-2480.

SUPPLEMENTARY INFORMATION:

Electronic Availability

The SDN List and additional information concerning OFAC sanctions programs are available on OFAC's website (www.treas.gov/ofac).

Notice of OFAC Actions

The Secretary of State, in consultation with the Secretary of the Treasury and heads of other relevant agencies, has selected certain sanctions to be imposed upon the persons listed below, pursuant to which the property and interests in property subject to U.S. jurisdiction of the persons listed below are blocked. The Secretary of State's determination is effective September 21, 2020.

Individuals

1. GHADIRIAN, Hamid Reza, Iran; DOB 23 Sep 1978; POB Aran o Bigdol, Iran; nationality Iran; Additional Sanctions Information—Subject to Secondary Sanctions; Gender Male; National ID No. 6199152344 (Iran) (individual) [NPWMD] [IFSR].

Designated pursuant to section 1(a)(ii) of Executive Order 13382 of June 28, 2005, 70 FR 38567, 3 CFR, 2006 Comp., p. 170 (E.O. 13382) for having engaged, or attempted to engage, in activities or transactions that have materially contributed to, or pose a risk of materially contributing to, the proliferation of weapons of mass destruction or their means of delivery (including missiles capable of delivering such weapons), including any efforts to manufacture, acquire, possess, develop, transport, transfer or use such items, by an person or foreign county of proliferation concern.

2. SHIVA'I, Ahmad Asghari (a.k.a. SHIVAEI, Ahmed Asghari), Iran; DOB 03 Mar 1973; POB Tehran, Iran; nationality Iran; Additional Sanctions Information—Subject to Secondary Sanctions; Gender Male; National ID No. 55690718 (Iran) (individual) [NPWMD] [IFSR].

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by an person or foreign county of proliferation concern.

Dated: September 21, 2020.
Andrea M. Gacki,
Director, Office of Foreign Assets Control.

[FR Doc. 2020-21153 Filed 9-24-20; 8:45 am]

BILLING CODE 4810-AL-P